SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals By Rule Issued Under 18 CFR 806.22(f)

1. Inflection Energy (PA), LLC; Pad ID: Hillegas Well Pad, ABR-201308017.R1; Upper Fairfield Township, Lycoming County, Pa.; Consumptive Use of Up to 4.0000 mgd; Approval Date: October 11, 2018.

2. Inflection Energy (PA), LLC; Pad ID: Bennett Well Pad, ABR-201308015.R1; Eldred Township, Lycoming County, Pa.; Consumptive Use of Up to 4.0000 mgd; Approval Date: October 19, 2018.

3. Cabot Oil & Gas Corporation; Pad ID: PavelskiJ Pad 1, ABR-201810001; Gibson Township, Susquehanna County, Pa.; Consumptive Use of Up to 5.0000 mgd; Approval Date: October 19, 2018.

4. Repsol Oil & Gas USA, LLC ; Pad ID: DCNR 594 (02 200), ABR-201810002; Liberty Township, Tioga County, Pa.; Consumptive Use of Up to 6.0000 mgd; Approval Date: October 22, 2018.

5. Chief Oil & Gas LLC, Pad ID: HEMLOCK RIDGE ESTATES UNIT PAD; ABR-201810003; McNett Township, Lycoming County, Pa.; Consumptive Use of Up to 2.5000 mgd; Approval Date: October 24, 2018.

6. ARD Operating, LLC; Pad ID: Lycoming H&FC Pad F; ABR-201309015.R1; Cogan House Township, Lycoming County, Pa.; Consumptive Use of Up to 4.0000 mgd; Approval Date: October 26, 2018.

Authority: Pub. L. 91-575, 84 Stat. 1509 et seq., 18 CFR parts 806, 807, and 808.

Dated: December 19, 2018.
Jason E. Oyler,
Acting Secretary of the Commission.

[FR Doc. 2018-27928 Filed 12-21-18; 8:45 am]

BILLING CODE 7040-01-P